NATIONAL SCIENCE FOUNDATION

Notice of Permit Applications Received Under the Antarctic Conservation Act of 1978

AGENCY: National Science Foundation.

ACTION: Notice of permit applications received.

SUMMARY: The National Science Foundation (NSF) is required to publish a notice of permit applications received to conduct activities regulated under the Antarctic Conservation Act of 1978. NSF has published regulations under the Antarctic Conservation Act in the Code of Federal Regulations. This is the required notice of permit applications received.

DATES: Interested parties are invited to submit written data, comments, or views with respect to this permit application by August 1, 2022. This application may be inspected by interested parties at the Permit Office, address below.

ADDRESSES: Comments should be addressed to Permit Office, Office of Polar Programs, National Science Foundation, 2415 Eisenhower Avenue, Alexandria, Virginia 22314 or ACApermits@nsf.gov.

FOR FURTHER INFORMATION CONTACT: Andrew Titmus, ACA Permit Officer, at the above address, 703-292-4479.

SUPPLEMENTARY INFORMATION: The National Science Foundation, as directed by the Antarctic Conservation Act of 1978 (Pub. L. 95-541, 45 CFR 670) as amended by the Antarctic Science, Tourism and Conservation Act of 1996, has developed regulations for the establishment of a permit system for various activities in Antarctica and designation of certain animals and certain geographic areas as requiring special protection. The regulations establish such a permit system to designate Antarctic Specially Protected Areas.

Application Details

Permit Application: 2023-005

1. Applicant:

Todd McKinney, University of Alabama in Huntsville, 241 Aldrin Dr, Huntsville AL 35806

Activity for Which Permit Is Requested

Waste management. The applicant proposes to deploy five micro super pressure weather balloons from Neumayer Station III in East Antarctica with the purpose of researching the behavior of micro super pressure balloons in the Antarctic climate. The balloons will fly for 30-150 days and then land, below 50 degrees south. The balloons will not be recovered. The balloons themselves should degrade within 3 years, while the small circuit boards they are equipped with will degrade between 25 to 50 years. The applicant is seeking a Waste Permit to cover these unrecoverable balloons and circuit boards.

Location

Neumayer Station III, East Antarctica.

Dates of Permitted Activities

November 8th-December 14th, 2022.

Erika N. Davis,
Program Specialist, Office of Polar Programs.

[FR Doc. 2022-13984 Filed 6-29-22; 8:45 am]

BILLING CODE 7555-01-P